ENVIRONMENTAL PROTECTION AGENCY

[OPP-2005-0137; FRL-7715-3]

Pesticide Environmental Stewardship Program (PESP) Regional Grants; Notice of Funds Availability

AGENCY: Environmental Protection Agency (EPA).

ACTION: Notice

.

SUMMARY: EPA's Office of Pesticide Programs (OPP), in coordination with the EPA Regional Offices, is soliciting applications for projects that further the goals of the Pesticide Environmental Stewardship Program (PESP). Eligible applicants include the 50 States, District of Columbia, U.S. Virgin Islands, Commonwealth of Puerto Rico, any territory or possession of the United States, any agency or instrumentality of a State including State universities, and all federally recognized Tribes. Under this program, assistance agreements will provide financial support to eligible applicants to carry out projects that reduce the risks associated with pesticide use in agricultural and non-agricultural settings. The total amount of funding available for award in FY 2005 is expected to be approximately $470,000, with a maximum funding level of $47,000 per project.

DATES: Submit your proposals in accordance with the detailed instructions in Unit IV.3. no later than August 15, 2005.

ADDRESSES: Applications must be submitted to your EPA Regional PESP Coordinator listed in Unit VII.

FOR FURTHER INFORMATION CONTACT: Your EPA Regional PESP Coordinator listed in Unit VII.

SUPPLEMENTARY INFORMATION:

Overview

The following listing provides certain key information concerning the proposal opportunity.

• Federal agency name: Environmental Protection Agency.

• Funding opportunity title: Pesticide Environmental Stewardship Program (PESP) Regional Grants; Notice of Funds Availability.

• Funding opportunity number: OPP-006.

• Announcement type: The initial announcement of a funding opportunity.

• Catalog of Federal Domestic Assistance (CFDA) number: This program is included in the Catalog of Federal Domestic Assistance under number 66.714 at http://www.cfda.gov.

• Dates: Applications must be postmarked by the U.S. Postal Service, hand delivered, or include official delivery service documentation indicating EPA Regional Office acceptance from a delivery service no later than August 15, 2005.

I. Funding Opportunity Description

A. Authority

EPA expects to enter into assistance agreements under the authority of section 20 of the Federal Insecticide, Fungicide, and Rodenticide Act(FIFRA), 7 U.S.C. 136r, which authorizes the Agency to issue grants or cooperative agreements for research, public education, training, monitoring, demonstrations, and studies. Regulations governing these assistance agreements are found at 40 CFR part 30 for institutions of higher education, colleges and universities, and nonprofit organizations, and 40 CFR part 31 for States and local governments. In addition, the provisions in 40 CFR part 32, governing government wide debarment and suspension; and the provisions in 40 CFR part 34, regarding restrictions on lobbying apply. All costs incurred under this program must be allowable under the applicable OMB Cost Circulars: A-87 (States and local governments), A-122 (nonprofit organizations), or A-21 (universities). Copies of these circulars can be found at http://www.whitehouse.gov/omb/circulars/. In accordance with EPA policy and the OMB circulars, as appropriate, any recipient of funding must agree not to use assistance funds for lobbying, fund-raising, or political activities (e.g., lobbying members of Congress or lobbying for other Federal grants, cooperative agreements, or contracts). See 40 CFR part 34.

B. Program Description

1. Purpose and scope. Assistance agreements awarded under this program are intended to provide financial assistance to eligible States and Tribal governments for projects that address pesticide risk reduction, integrated pest management (IPM), IPM in schools, children's health issues related to pesticides, and those research methods for documenting IPM adoption or the reduction of risks associated with changes in pesticide use. Other projects will be considered as they complement these goals through public education, training, monitoring, demonstrations, and other activities. Emphasis will be placed on those projects with defined outcomes that can quantitatively document project impacts. Although the proposal may request funding for activities that will further long-term objectives, this program provides onetime funding, and the maximum period of performance for funded activities is expected to be not more than 24 months.

2. Activities to be funded. EPA specifically seeks to build IPM capacities or to evaluate the feasibility of new IPM approaches at the local level (i.e., innovative approaches and methodologies that use application or other strategies to reduce the risks associated with pesticide use). Projects might focus on, for example:

i. Developing and utilizing measures to determine and document progress in pesticide risk reduction.

ii. Investigating methods for establishing IPM as an environmental management priority, establishing prevention goals, developing strategies to meet those goals, and integrating the ethic within both governmental and non-governmental institutions of the State or region.

iii. Initiating projects that test and support: Innovative techniques for reducing pesticide risk or using pesticides in a way to reduce risk, and innovative application techniques to reduce worker and environmental exposure.

iv. Conducting projects focusing on IPM for specific pests.

3. Goals and objectives. Through the assistance agreements awarded under this program, EPA intends that recipients address specific pesticide risk reduction concerns.

4. EPA strategic plan linkage and anticipated outcomes/outputs.

i. Linkage to EPA Strategic Plan/GPRA Architecture. These assistance agreements will support progress towards EPA Strategic Plan Goal 4, Healthy Communities and Ecosystems, Objective 4.1: Chemical, Organism, and Pesticide Risks: Prevent and Reduce Pesticide, Chemical, and Genetically Engineered Biological Organism Risks to Humans, Communities, and Ecosystems. These projects will support EPA's efforts in pesticide risk reduction by fostering IPM adoption, developing IPM program components, testing and supporting innovative techniques for reducing pesticide risk, and disseminating information on proven reduced risk pest management approaches.

ii. Outcomes. Through these agreements EPA hopes to work with States and Tribes so they can reduce risks from exposure to pesticides through implementation of proven reduced risk approaches to pest management.

iii. Outputs. The anticipated output of these PESP projects may include educational and outreach materials, increased IPM adoption, conferences, training, and other programs, policies, and activities that will result in the reduction of pesticide risks.

5. History. The goal of the PESP is to reduce the risks associated with pesticide use in agricultural and non-agricultural settings in the United States. Each year since 1996, EPA's Office of Pesticide Programs, in coordination with the EPA Regions, has published similar solicitations, awarding approximately $470,000 annually to eligible State and Tribal entities for projects supporting pesticide risk reduction. This Federal Register notice provides qualification and application requirements to parties who may be interested in submitting proposals for fiscal year 2005 monies. A list of projects funded since fiscal year 1998 and their proposals may be obtained at http://www.epa.gov/oppbppd1/PESP/regional_grants.htm or from your Regional PESP Coordinator.

II. Award Information

The funding for each selected award project will be in the form of an assistance agreement awarded under FIFRA section 20. The total funding available for award in FY 2005 is expected to be approximately $470,000, with a maximum funding level of $47,000 per project. Indirect cost rates will not increase the $47,000 maximum funding amount.

Should additional funding become available for award, the Agency may award additional grants based on this solicitation and in accordance with the final selection process, without further notice of competition during the first 4 months following the competition award. The Agency also reserves the right to decrease available funding for this program, or to make no awards based on this solicitation.

III. Eligibility Information

1. Threshold eligibility factors. To be eligible for consideration, applicants must meet all of the following criteria. Proposals that do not meet these threshold criteria will be rejected without further evaluation.

i. Eligible applicants include the 50 States, District of Columbia, U.S. Virgin Islands, Commonwealth of Puerto Rico, any territory or possession of the United States, any agency or instrumentality of a State including State universities, and all federally recognized Tribes.

ii. All proposed project activities must be eligible under the authorizing statute, FIFRA section 20 (7 U.S.C. 136r).

iii. The proposal must meet all format and content requirements contained in Unit IV.

iv. The proposal must comply with the directions for submittal contained in Unit IV.

2. Cost sharing or matching. There are no cost share requirements for this project.

IV. Application and Submission Information

1. Address to request a proposal package. Contact your EPA Regional PESP Coordinator listed in Unit VII. A generic proposal format is also available from EPA at http://www.epa.gov/oppbppd1/PESP/regional_grants.htm.

2. Content and form of proposal submission. Proposals must be typewritten, double-spaced, using 8.5 x 11 inch paper with minimum 1 inch horizontal and vertical margins. Pages must be numbered in order starting with the cover page and continuing through the appendices. One original and one electronic copy (disk or CD ROM) are required.Applications must contain a narrative proposal, and one completed and signed Federal grant application package. The narrative proposal must explicitly describe the applicant's proposed project and specifically address each of the evaluation criteria disclosed in Unit V.1. of this notice.

A complete application must contain the following, in the sequential order shown:

• Completed Standard Form SF-424, Application for Federal Assistance with organization fax number and e-mail address. The application forms are available on line at http://www.epa.gov/ogd/grants/how_to_apply.htm.

• Proposal narrative. The narrative must conform to the following format and contain the following information:

Proposal narrative. Includes Parts I-IV as identified below. The narrative must conform to the following format:

Part I—Summary Information (page 1).

i. EPA docket ID number OPP 2005-0137.

ii. Applicant information. Include applicant (organization) name, address, contact person, phone number, fax and e-mail address.

iii. Title of project.

iv. Purpose statement. One sentence description of what will be accomplished as a result of the project.

v. Project duration.

vi. Funding requested. A budget table that lists first year funding, second year funding, and total funding being requested and any matching funds that will be provided.

Part II—Executive Summary (page 2). Summary of key objectives and final products (expected outputs and outcomes) including the measurable environmental results you expect including potential human health and ecological benefits.

Part III—Narrative (page 3 up to page 11). Includes sections i-viii as identified below and may not exceed eight pages.

i. Objectives. Identify the key factors or achievements necessary to the success of the project.

ii. Rationale. For each objective listed above, discuss the potential outcome in terms of environmental, human health, pesticide risk and/or use reduction or pollution prevention.

iii. Approach and methods. Describe in detail how the project will be carried out. Describe how the system or approach will support the project goals.

iv. Background information. This should contain information on current state of knowledge of the proposed project. This may be in the form of a literature review or a summary of collective activities. If your organization has received previous funding on this effort, please provide the agency/organization name and project number.

v. Resources. What human resources, funding, potential collaborators and/or existing networks do you offer to increase possibility of project success? Please state the role these people and/or organizations will play in the project.

vi. Measures and outcomes. What will be different as a result of this project? How will you evaluate the success of the project in terms of measurable environmental results? Quantifiable risk reduction measures should be described.

vii. Outreach. Describe how you will promote the project so that information is clearly presented and useful to the intended audience. A strong proposal will use a variety of methods for education and information dissemination.

viii. Sustainability. Describe how the efforts may continue after the EPA funding ends and how information learned in the project may be useful to other locales, commodities, or a broader audience.

Part IV—Appendices. The following appendices must be included in the proposal. Additional appendices are not permitted.

i. Appendix A—Literature Cited. List cited key literature references alphabetically by author.

ii. Appendix B—Timetable. A timetable that includes what will be accomplished under each of the objectives during the project and when completion of each objective is anticipated.

iii. Appendix C—Major Participants. List all affiliates or other organizations, educators, trainers, and others having a major role in the proposal. Provide name, organizational affiliation, or occupation and a description of the role each will play in the project. A brief resume (not to exceed two pages) should be submitted for each major project manager, educator, support staff, or other major participant.

iv. Appendix D—Project Budget. Use Form 424A and provide narrative on how resources will be spent. The budget should outline costs for personnel, fringe benefits, travel, equipment, supplies, contractual, indirect cost rate, and any other costs associated with the proposed project.

3. Application submission. Applications must be submitted by mail or courier.

i. Submission method. Submit one complete copy of your proposal along with an electronic version on disk or CD ROM to your EPA Regional PESP Coordinator listed in Unit VII. Your name, e-mail address, and telephone number must appear on the outside of any disk or CD ROM you submit. The electronic submission must be consolidated into a single file and in Microsoft Word for Windows, WordPerfect for Windows, or Adobe PDF format.

ii. Submission dates and times. EPA will consider all proposals that are postmarked by the U.S. Postal Service or include official delivery service documentation indicating EPA Regional Office acceptance from a delivery service no later than August 15, 2005. If proposals are not submitted or postmarked by August 15, 2005, they will be rejected and will not be considered for funding.

4. Intergovernmental Review. All applicants should be aware that formal requests for assistance (i.e., SF 424 and associated documentation) may be subject to intergovernmental review under Executive Order 12372 “Intergovernmental Review of Federal Programs.” Applicants should contact their states' single point of contact (SOC) for further information. There is a list of these contacts at the following web site:http:/whitehouse.gov/omb/grants/spoc.html.

5. Funding restrictions. EPA grant funds may only be used for the purposes set forth in the assistance agreement, and must be consistent with the statutory authority for the award. Assistance agreement funds may not be used for matching funds for other Federal grants, lobbying, or intervention in Federal regulatory or adjudicatory proceedings. In addition, Federal funds may not be used to sue the Federal government or any other governmental entity. All costs identified in the budget must conform to applicable Federal Cost Principles contained in OMB Circular A-87; A-122; and A-21, as appropriate. Indirect cost rates will not increase the maximum funding amount.

6. Other submission requirements. Awards involving the collection of environmental data will be subject to the requirements of a Quality Assurance Project Plan (QAPP) and will require coordination with the EPA Regional PESP Coordinator listed in Unit VII. A QAPP is not required at the time of submittal but will be required if selected for funding.

7. Confidential business information. In accordance with 40 CFR 2.203, applicants may claim all or a portion of their application/proposal as confidential business information. EPA will evaluate confidential claims in accordance with 40 CFR part 2. Applicants must clearly mark applications/proposals or portions of applications/proposals they claim as confidential. If no claim of confidentiality is made, EPA is not required to make the inquiry to the applicant otherwise required by 40 CFR 2.204(2) prior to disclosure.

V. Application Review Information

1. Criteria. Applicants will be screened to ensure that they meet all eligibility criteria and will be disqualified if they do not meet all eligibility criteria. EPA Regional PESP Coordinators are responsible for the receipt and will coordinate the screening and selection of proposals. The corresponding points next to each criterion are the weights that will be used to evaluate the applications. Please note that certain sections are given greater weight than others. Each application will be ranked based on the following evaluation criteria (Total: 100 points):

i. Clearly stated objectives. Are the project objectives clearly stated and consistent with the pesticide risk reduction goals of PESP? Do the objectives implement reduced risk pest control techniques, develop strategies that will lead to implementation of such projects, or document the trends toward the adoption of IPM or the reduction of risk associated with pesticide use? (Weight: 10 points)

ii. Critical pesticide risk reduction need. Does the project identify a regionally/nationally critical pesticide risk reduction issue? Does the project clearly explain the importance of the project and define the environmental problem? (Weight: 15 points)

iii. Project design/past performance. Does the project specify realistic goals and objectives that deal with the identified problem? Does the project demonstrate potential for long-term benefits? Can the project be accomplished within the designated 24-month time frame? Does the project apply holistic problem-solving, particularly biological systems, and address multiple components of the system? Does the project build upon or consider lessons learned from existing efforts, or leverage other significant activities? Does the workplan commit to providing regular project reports including progress on measurement? (Weight: 20 points)

iv. Qualifications. Does the applicant demonstrate sufficient experience in the field of the proposed activity? Does the applicant have the properly trained staff, facilities, or infrastructure in place to conduct the project? (Weight: 5 points)

v. Performance measures. Is the project designed in such a way that it is maximized to measure and document the results quantitatively and qualitatively? Does the applicant identify the method that will be used to measure and document the project's results quantitatively and qualitatively? Will the project assess or suggest a new means of measuring progress in reducing pesticide risks and result in information that will be valuable to other efforts? Is the project likely to achieve predicted environmental results, expected outcomes, project goals, and produce quantifiable environmental change identified in Unit I of the announcement. Is a description of expected outcomes included? (Weight: 25 points)

vi. Outreach and transferability. Does the project include participation of partner organizations? Does the project include the involvement of local stakeholders, grower-to-grower education, or grower-to-scientist interaction to achieve technology transfer? Is the project likely to be replicated in other areas by other organizations or is the product likely to have broad utility to a widespread audience? (Weight: 25 points)

2. Review and selection process. Applications will be reviewed and evaluated for validity and completeness by the EPA Regional PESP Coordinators. If the Region determines that an application is incomplete, the proposal will not be considered further. Each Regional PESP Coordinator will convene a panel consisting of Regional staff to evaluate all complete proposal packages. The highest rated/ranked proposal in each Region will be funded.

3. Anticipated announcement and award dates. Final selections will be made approximately 28 days after the closing date for receipt of proposals. The Agency reserves the right to reject all proposals and make no awards.

VI. Award Administration Information

1. Award notices. The EPA Regional PESP Coordinator will e-mail an acknowledgment to applicants upon receipt of the application. Once all of the applications have been reviewed, evaluated, and ranked, applicants will be notified of the outcome of the competition. A listing of the successful proposals will be posted on the PESP website(http://www.epa.gov/oppbppd1/PESP/regional_grants.htm) at the conclusion of the competition.

2. Administrative and national policy requirements. An applicant whose proposal is selected for Federal funding must complete additional forms prior to award (see 40 CFR 30.12 and 31.10), and will be required to certify that they have not been debarred or suspended from participation in Federal assistance awards in accordance with 40 CFR part 32.

Selected applicants must formally apply for funds through the appropriate EPA Regional Office. In addition, selected applicants must negotiate a final work plan, including reporting requirements, with the designated EPA Regional project officer. For more general information on post award requirements and the evaluation of grantee performance, see 40 CFR part 31.

3. Reporting. The successful recipient will be required to submit quarterly and/or annual reports (as determined by the EPA Regional PESP Coordinator), and to submit annual financial reports. The specific information contained within the report will include at a minimum, a comparison of actual accomplishments to the objectives established for the period. The EPA Regional PESP Coordinator may request additional information relative to the scope of work in the assistance agreement and which may be useful for Agency reporting under the Government Performance and Results Act.

4. Disputes. Assistance agreement competition-related disputes will be resolved in accordance with the dispute resolution procedures published in the Federal Register of January 26, 2005 (70 FR 3629) (FRL-7863-3), which can be found at http://a257.g.akamaitech.net/7/257/2422/ 01jan20051800/edocket.access.gpo.gov/2005/05-1371.htm. Copies of these procedures may also be requested by contacting the appropriate EPA Regional PESP Coordinator listed under Unit VII.

VII. Agency Contact

The applicant may contact the appropriate EPA Regional PESP Coordinator to obtain clarification and guidance. EPA Regional PESP Coordinators are:

Region I (Connecticut, Massachusetts, Maine, New Hampshire, Rhode Island, Vermont), Andrea Szylvian, 1 Congress St., Suite 1100, (CPT), Boston, MA 02114-2023; telephone: (617) 918-1198; e-mail:szylvian.andrea@epa.gov.

Region II (New York, New Jersey, Puerto Rico, Virgin Islands), Tara Masters, Raritan Depot, 2890 Woodbridge Ave., (MS-500), Edison, NJ 08837-3679; telephone: (732) 906-6183; e-mail:masters.tara@epa.gov.

Region III (Delaware, Maryland, Pennsylvania, Virginia, West Virginia, District of Columbia), Fatima El-Abdaoui, 1650 Arch St., (3WC32), Philadelphia, PA 19103-2029; telephone: (215) 814-2129;e-mail: el-abdaoui.fatima@epa.gov.

Region IV (Alabama, Florida, Georgia, Kentucky, Mississippi, North Carolina, South Carolina, Tennessee), Amber Davis, 61 Forsyth St., SW., Atlanta, GA 30303-8960; telephone:(404) 562-9014; e-mail: davis.amber@epa.gov.

Region V (Illinois, Indiana, Michigan, Minnesota, Ohio, Wisconsin), Heather Anhalt, 77 W Jackson Blvd., (DT-8J), Chicago, IL 60604-3507;telephone: (312) 886-3572; e-mail:anhalt.heather@epa.gov.

Region VI (Arkansas, Louisiana, New Mexico, Oklahoma, Texas), Jerry Collins, 1445 Ross Ave., Suite 1200, (6PD-P), Dallas, TX 75202-2733; telephone: (214) 665-7562; e-mail: collins.jerry@epa.gov.

Region VII (Iowa, Kansas, Missouri, Nebraska), Brad Horchem, 901 N 5th St., (WWPDPEST), Kansas City, KS 66101; telephone: (913) 551-7137; e-mail: horchem.brad@epa.gov.

Region VIII (Colorado, Montana, North Dakota, South Dakota, Utah, Wyoming), Peg Perreault, 999 18th St., Suite 300, (8P-P3T), Denver, CO 80202-2466; telephone: (303) 312-6286; e-mail:perreault.peg@epa.gov.

Region IX (Arizona, California, Hawaii, Nevada, American Samoa, Guam), Karen Heisler, 75 Hawthorne St., (CMD-1), San Francisco, CA 94105; telephone: (415) 947-4240; e-mail: heisler.karen@epa.gov.

Region X (Alaska, Idaho, Oregon, Washington), Sandra Halstead, (WSU-IAREC), 24106 N. Bunn Road, Prosser, WA 99350; telephone: (509) 786-9225; e-mail: halstead.sandra@epa.gov.

VIII. Other Information

A. Does this Action Apply to Me?

This action is directed to the public in general but will be of particular interest to eligible applicants who include the 50 States, District of Columbia, U.S. Virgin Islands, Commonwealth of Puerto Rico, any territory or possession of the United States, any agency or instrumentality of a State including State universities, and all federally recognized Tribes.

If you have any questions regarding the applicability of this action to a particular entity, consult your EPA Regional PESP Coordinator listed under Unit VII.

B. How Can I Get Additional Information, Including Copies of this Document and Other Related Documents?

1. Docket. EPA has established an official public docket for this action under docket identification (ID) number OPP-2005-0137. The official public docket is the collection of materials that is available for public viewing at the Public Information and Records Integrity Branch (PIRIB), Room 119, Crystal Mall #2, 1800 S. Bell St., Arlington, VA. This docket facility is open from 8:30 a.m. to 4 p.m., Monday through Friday, excluding legal holidays. The docket telephone number is (703) 305-5805.

2. Electronic access. You may obtain electronic copies of this document through the EPA Internet under the “Federal Register” listings at http://www.epa.gov/fedrgstr/. An electronic version of the public docket is available through EPA's electronic public docket and comment system, EPA Dockets. You may use EPA Dockets athttp:/www.epa.gov/edocket/ to access the index listing of the contents of the official public docket, and to access those documents in the public docket that are available electronically. Although not all docket materials may be available electronically, you may still access any of the publicly available docket materials through the docket facility identified in Unit I.B.1., above. Once in the system, select “search,” then key in the appropriate docket ID number.

IX. Submission to Congress and the Comptroller General

Grant solicitations containing binding legal requirements are considered rules for the purpose of the Congressional Review Act (CRA) (5 U.S.C. 801 et seq.). The CRA generally provides that before a rule may take effect, the agency promulgating the rule must submit a rule report, which includes a copy of the rule, to each House of the Congress and to the Comptroller General of the United States. EPA will submit a report containing this grant solicitation and other required information to the U.S. Senate, the U.S. House of Representatives, and the Comptroller General of the United States prior to publication in the Federal Register. This grant solicitation does not qualify as a “major rule” as defined by 5 U.S.C. 804(2).

List of Subjects

Environmental protection, Pesticides, Risk reduction, PESP.

Dated: June 24, 2005.
Margaret Schneider,
Acting Assistant Administrator, Office of Prevention, Pesticides and Toxic Substances.

[FR Doc. 05-12923 Filed 6-29-05; 8:45 am]

BILLING CODE 6560-50-S